DEPARTMENT OF AGRICULTURE

Food and Nutrition Service

Agency Information Collection Activities: Proposed Collection; Comment Request; Form FNS-135, Affidavit of Return or Exchange of Food Coupons

AGENCY: Food and Nutrition Service, USDA.

ACTION: Notice.

SUMMARY: In accordance with the Paperwork Reduction Act of 1995, this notice invites the general public and other public agencies to comment on a proposed revision of a currently approved information collection contained in form FNS-135, Affidavit of Return or Exchange of Food Coupons.

DATES: Written comments must be submitted on or before December 18, 2001.

ADDRESSES: Send comments and requests for copies of this information collection to: Jeffrey N. Cohen, Branch Chief, Electronic Benefit Transfer Branch, Benefit Redemption Division, Food and Nutrition Service, U.S. Department of Agriculture, 3101 Park Center Drive, Alexandria, VA 22302.

Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

All responses to this notice will be summarized and included in the request for OMB approval. All comments will also become a matter of public record.

FOR FURTHER INFORMATION CONTACT: Jeffrey N. Cohen, (703) 305-2523.

SUPPLEMENTARY INFORMATION: Title: Affidavit of Return or Exchange of Food Coupons.

OMB Number: 0584-0052.

Form Number: FNS-135.

Expiration Date: 11/30/2001.

Type of Request: Revision of a currently approved collection.

Abstract: Section 7(d) of the Food Stamp Act of 1977, as amended, (7 U.S.C.2016(d)) requires that State agencies determine and monitor food stamp coupon inventories. The Food Stamp Program regulations at 7 CFR 274.6(f) require that State agencies replace improperly manufactured or mutilated coupons after the recipient requesting replacement completes an FNS-135, Affidavit of Return or Exchange of Food Coupons. The form must also be used when coupons are returned for other reasons such as the return of found coupons. The forms document the return of coupons and provides an audit trail for their processing within State agency offices. The proposed revision reflects the fact that the expected number of respondents should be less than in previous years because the number of food stamp coupons has declined over the past several years with the implementation of electronic benefit delivery systems.

Affected Public: State and local government employees and recipients.

Estimated Number of Respondents: 30,000.

Estimated Number of Responses per respondent: 1.

Estimated Time per Response: .25 hours.

Estimated Total Annual Burden: 7,500 hours annually.

Dated; October 10, 2001.
George A. Braley,
Acting Administrator.

[FR Doc. 01-26466 Filed 10-18-01; 8:45 am]

BILLING CODE 3410-30-P